DEPARTMENT OF HOUSING AND URBAN DEVELOPMENT

24 CFR Chapter IX

[Docket No. FR-5650-N-05]

Native American Housing Assistance and Self-Determination Act of 1996: Announcement of Negotiated Rulemaking Committee Meeting

AGENCY: Office of Assistant Secretary for Public and Indian Housing, HUD.

ACTION: Notice of meeting of negotiated rulemaking committee.

SUMMARY: This notice announces the second meeting of the negotiated rulemaking committee.

DATES: The meeting will be held on Tuesday, September 17, 2013, Wednesday, September 18, 2013, and Thursday, September 19, 2013. On each day, the session will begin at approximately 8:30 a.m., and adjourn at approximately 5:00 p.m.

ADDRESSES: The meeting will take place at the Grand Hyatt Hotel, 1750 Welton Street, Denver, Colorado, 80202.

FOR FURTHER INFORMATION CONTACT: Rodger J. Boyd, Deputy Assistant Secretary for Native American Programs, Office of Public and Indian Housing, Department of Housing and Urban Development, 451 Seventh Street SW., Room 4126, Washington, DC 20410, telephone number 202-401-7914 (this is not a toll-free number). Hearing- or speech-impaired individuals may access this number via TTY by calling the toll-free Federal Relay Service at 1-800-877-8339.

SUPPLEMENTARY INFORMATION:

I. Background

The Native American Housing and Assistance and Self-Determination Act of 1996 (25 U.S.C. 4101 et seq.) (NAHASDA) changed the way that housing assistance is provided to Native Americans. NAHASDA eliminated several separate assistance programs and replaced them with a single block grant program, known as the Indian Housing Block Grant (IHBG) program. The regulations governing the IHBG formula allocation are codified in subpart D of part 1000 of HUD's regulations in title 24 of the Code of Federal Regulations. In accordance with section 106 of NAHASDA, HUD developed the regulations with active tribal participation using the procedures of the Negotiated Rulemaking Act of 1990 (5 U.S.C. 561-570).

Under the IHBG program, HUD makes assistance available to eligible Indian tribes for affordable housing activities. The amount of assistance made available to each Indian tribe is determined using a formula that was developed as part of the NAHASDA negotiated process. Based on the amount of funding appropriated for the IHBG program, HUD calculates the annual grant for each Indian tribe and provides this information to the Indian tribes. An Indian Housing Plan for the Indian tribe is then submitted to HUD. If the Indian Housing Plan is found to be in compliance with statutory and regulatory requirements, the grant is made.

On June 12, 2013 (78 FR 35178), HUD announced in the Federal Register the list of proposed members for the negotiated rulemaking committee, and requested additional public comment on the proposed membership. On July 30, 2013 (78 FR 45903) after considering public comments, HUD published the final list of committee members and announced the date of the first negotiated rulemaking meeting. The first negotiated rulemaking meeting was schedule for August 27, 2013, and August 28, 2013, in Denver, Colorado.

II. Second Committee Meeting

The second meeting of the Indian Housing Block Grant Allocation Formula Negotiated Rulemaking Committee will be held on Tuesday, September 17, 2013, Wednesday, September 18, 2013, and Thursday, September 19, 2013. On each day, the session will begin at approximately 8:30 a.m., and adjourn at approximately 5:00 p.m. The meetings will take place at the Grand Hyatt Hotel, 1750 Welton Street, Denver, Colorado, 80202.

The meeting will be open to the public without advance registration. Public attendance may be limited to the space available. Members of the public may make statements during the meeting, to the extent time permits, and file written statements with the committee for its consideration. Written statements should be submitted to the address listed in the FOR FURTHER INFORMATION CONTACT section of this document.

III. Future Committee Meetings

Decisions with respect to future meetings will be made at the first meeting and from time to time thereafter. Notices of all future meetings will be published in the Federal Register. HUD will make every effort to publish such notices at least 15 calendar days prior to each meeting.

Dated: August 14, 2013.
Sandra Henriquez,
Assistant Secretary for Public and Indian Housing.

[FR Doc. 2013-21610 Filed 9-3-13; 8:45 am]

BILLING CODE 4210-67-P